DEPARTMENT OF ENERGY

Federal Energy Regulatory Commission

Notice of Effectiveness of Exempt Wholesale Generator and Foreign Utility Company Status

Athos, LLC | EG19-46-000
Athos II, LLC | EG19-47-000
Terra-Gen CA Windpower Development, LLC | EG19-48-000
41MB 8ME, LLC | EG19-49-000
Innolith Snook LLC | EG19-50-000
Cedar River Transmission, LLC | EG19-51-000
Crystal Lake Wind Energy I, LLC | EG19-52-000
Crystal Lake Wind Energy II | EG19-53-000
Ronaver Energy Limited | FC19-2-000

Take notice that during the month of March 2019, the status of the above-captioned entities as Exempt Wholesale Generators or Foreign Utility Companies became effective by operation of the Commission's regulations. 18 CFR 366.7(a) (2019).

Dated: April 4, 2019.
Nathaniel J. Davis, Sr.,
Deputy Secretary.

[FR Doc. 2019-07084 Filed 4-9-19; 8:45 am]

BILLING CODE 6717-01-P